DEPARTMENT OF LABOR

Employment and Training Administration

[TA-W-72,695]

Hanesbrands, Inc., Galax, VA; Notice of Negative Determination on Reconsideration

On May 4, 2010, the Department issued an Affirmative Determination Regarding Application for Reconsideration for the workers and former workers of Parkdale Mills (formerly Hanesbrands, Inc.), Galax, Virginia. The Department's Notice was published in the Federal Register on May 20, 2010 (75 FR 28295).

The initial investigation resulted in a negative determination based on the finding that Parkdale Mills (formerly Hanesbrands, Inc.), Galax, Virginia did not totally or partially separate, or threaten to separate, a significant number or proportion of workers as required by Section 222 of the Trade Act of 1974, as amended.

In the request for reconsideration, the petitioners alleged that an adequate employment decline had occurred and provided additional information in support of the allegation.

During the reconsideration investigation, the Department of Labor requested Hanesbrands, Inc. to submit a new Confidential Data Request form as well as written and verbal clarification of previously-submitted information and additional written information.

During the reconsideration investigation, the Department confirmed that the facility at issue was sold by Hanesbrands, Inc. to Parkdale Mills of Gastonia, North Carolina on October 28, 2009 and that yarn production increased in 2008 from 2007 levels but decreased during January through September 2009 compared to January through September 2008 levels.

The petitioners state that separations at the Galax, Virginia facility occurred on October 23, 2009 and October 24, 2009, and asserts that worker separations occurred because the “Plant was sold—reduction in force.”

Based on previously-submitted information and new information obtained during the reconsideration investigation, the Department determines that the subject workers are workers separated from Hanesbrands, Inc., Galax, Virginia and not workers separated from Parkdale Mills, Galax, Virginia. A careful review of the new information revealed that a significant proportion or number of workers at Hanesbrands, Inc., Galax, Virginia was totally or partially separated, or threatened with such separation, prior to October 28, 2009.

During the reconsideration investigation, the Department confirmed that Hanesbrands, Inc., Galax, Virginia was an export-only facility that produced yarn exclusively for use in foreign countries and that Hanesbrands, Inc. did not shift to or acquire from a foreign country articles like or directly competitive with the yarn produced at the Galax, Virginia facility.

The reconsideration investigation also revealed that Hanesbrands, Inc. did not increase its imports of either articles like or directly competitive with the yarn produced at the Galax, Virginia facility or the apparel made from fabric woven from the yarn formerly produced at the Galax, Virginia facility.

Based on the information obtained during the initial and reconsideration investigations, the Department determines that the criteria set forth in Section 222(a) have not been met.

Since the yarn produced by the subject worker group was exported to be used in foreign facilities and worker groups located outside the United States and U.S. Territories cannot be eligible to apply for Trade Adjustment Assistance, the Department determines that the adversely affected secondary workers criteria set forth in Section 222(c) have not been met.

Conclusion

After careful reconsideration, I affirm the original notice of negative determination of eligibility to apply for worker adjustment assistance for workers and former workers of Hanesbrands, Inc., Galax, Virginia.

Signed in Washington, DC, this 31st day of August, 2010.
Del Min Amy Chen,
Certifying Officer, Office of Trade Adjustment Assistance.

[FR Doc. 2010-22722 Filed 9-10-10; 8:45 am]

BILLING CODE 4510-FN-P